DEPARTMENT OF JUSTICE

Antitrust Division

Notice Pursuant to the National Cooperative Research and Production Act of 1993—Portland Cement Association

Notice is hereby given that, on February 10, 2004, pursuant to Section 6(a), of the National Cooperative Research and Production Act of 1993, 15 U.S.C. 4301 et seq. (“the Act”), Portland Cement Association (“PCA”) has filed written notifications simultaneously with the Attorney General and the Federal Trade Commission disclosing a change in its membership status. The notifications were filed for the purpose of extending the Act's provisions limiting the recovery of antitrust plaintiffs to actual damages under specified circumstances. Specifically, Keystone Cement Company, Exton, PA has been added as a Member. Dixon-Marquette has been acquired by CEMEX, a Member, and is no longer listed. Florida Rock Industries, Jacksonville, FL is no longer a Member. GCC Dacotah and GCC Rio Grande, El Paso, TX have changed their names to GCC of America, Inc. Lone Star Industries and RC Cement Co., Bethlehem, PA have changed their names to Buzzi Unicem USA Inc. North Texas Cement Company, Houston, TX has changed its name to Ash Grove Texas, L.P. The Affiliate Members, California Cement Promotion Council, Citrus Heights, CA and Cement and Concrete Pavement Council of Texas, Euless, TX have changed their names, respectively, to California Nevada Cement Production Council and Cement Council of Texas.

No other changes have been made in either the membership or planned activity of the group research project. Membership in this group research project remains open, and PCA intends to file additional written notification disclosing all changes in membership.

On January 7, 1985, PCA filed its original notification pursuant to Section 6(a) or the Act. The Department of Justice published a notice in the Federal Register pursuant to section 6(b) of the Act on February 5, 1985 (50 FR 5015).

The last notification was filed with the Department on September 26, 2003. A notice was published in the Federal Register pursuant to Section 6(b) of the Act on October 22, 2003 (68 FR 60416).

Dorothy B. Fountain,
Deputy Director of Operations, Antitrust Division.

[FR Doc. 04-5456 Filed 3-10-04; 8:45 am]

BILLING CODE 4410-11-M